FEDERAL COMMUNICATIONS COMMISSION

47 CFR Part 73

[DA 04-1347, MB Docket No. 04-16, RM-10840]

Digital Television Broadcast Service; Roswell, NM

AGENCY: Federal Communications Commission.

ACTION: Final rule.

SUMMARY: The Commission, at the request of Eastern New Mexico University, allots DTV channel *31 for noncommercial use at Roswell, New Mexico. See 69 FR 6238, February 10, 2004. DTV channel *31 can be allotted to Roswell, New Mexico, in compliance with the principal community coverage and the minimum geographic spacing requirements of Sections 73.625(a) and 73.623(d) at reference coordinates 33-19-56 N. and 104-48-17 W. Since the community of Roswell is located within 275 kilometers of the U.S.-Mexican border, concurrence from the Mexican government has been obtained for this allotment. With this action, this proceeding is terminated.

DATES: Effective August 2, 2004.

FOR FURTHER INFORMATION CONTACT: Pam Blumenthal, Media Bureau, (202) 418-1600.

SUPPLEMENTARY INFORMATION: This is a synopsis of the Commission's Report and Order, MB Docket No. 04-16, adopted May 13, 2004, and released May 28, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under New Mexico, is amended by adding DTV channel *31 at Roswell.

Federal Communications Commission.
Barbara A. Kreisman,
Chief, Video Division, Media Bureau.

[FR Doc. 04-14999 Filed 6-30-04; 8:45 am]

BILLING CODE 6712-01-P